DEPARTMENT OF DEFENSE

Office of the Secretary

[Transmittal No. 25-0X]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0X.

Dated: January 22, 2026.
Stephanie J. Bost,
Alternate OSD Federal Register Liaison Officer, Department of Defense.

BILLING CODE 6001-FR-P

BILLING CODE 6001-FR-C

Transmittal No. 25-0X

REPORT OF ENHANCEMENT OR UPGRADE OF SENSITIVITY OF TECHNOLOGY OR CAPABILITY (SEC. 36(B)(5)(C), AECA)

(i) Prospective Purchaser: Government of Romania

(ii) Sec. 36(B)(1), AECA Transmittal No.: 23-54

Date: July 27, 2023

Implementing Agency: Navy

Funding Source: National Funds

(iii) Description: On July 27, 2023, Congress was notified by congressional certification transmittal number 23-54 of the possible sale, under Section 36(b)(1) of the Arms Export Control Act, of sixteen (16) Assault Amphibious Vehicles (AAVs), Personnel Variant (AAVP-7A1); three (3) Assault Amphibious Vehicles, Command Variant (AAVC-7A1); two (2) Assault Amphibious Vehicles, Recovery Variant (AAVR-7A1); sixteen (16) 50 Cal Machine Guns (Heavy Barrel); and five (5) 7.62 mm M240B Machine Guns. Also included were MK-19 Grenade Launchers; M36E T1 Thermal Sighting Systems (TSS); supply support (spare parts); support equipment (including special mission kits/Enhanced Applique Kits (EAAK)); training, unclassified technical manuals, technical data package, engineering and technical support and assistance (including Contractor Engineering Technical Services (CETS)); and other related elements of program and logistics support. The estimated total program cost was $120.5 million. Major Defense Equipment (MDE) constituted $75.5 million of this total.

This transmittal notifies the inclusion of the following additional MDE items: thirty-seven (37) Assault Amphibious Vehicles, Personnel variant (AAVP-7A1) Reliability, Availability, Maintainability/Rebuilt to Standard (RAM/RS); five (5) Assault Amphibious Vehicles, Command variant (AAVC-7A1) RAM/RS; two (2) Assault Amphibious Vehicles, Recovery variant (AAVR-7A1) RAM/RS; thirty-seven (37) .50 caliber machine guns (heavy barrel); and seven (7) 7.62 mm M240B machine guns. The following non-MDE will also be included: MK-19 grenade launchers; M36E T1 thermal sights; supply support and spare parts; support equipment, including special mission kits and Enhanced Applique Kits); training; unclassified technical manuals; technical data package; engineering and technical support and assistance, including contractor engineering technical services); and other related elements of logistics and program support. The estimated total cost of the new items is $404.0 million. The estimated MDE value will increase by $210.3 million to a revised $285.8 million. The estimated non-MDE value will increase by $193.7 million to a revised $238.7 million. The estimated total case value will increase by $404.0 million to a revised $524.5 million.

(iv) Significance: This notification is being provided as the additional MDE items were not enumerated in the original notification. The inclusion of this MDE represents an increase in capability over what was previously notified. The proposed sale will improve Romania's capability to meet current and future threats by modernizing and ensuring its continued expeditionary capability to counter regional threats.

(v) Justification: This proposed sale will support the foreign policy goals and national security objectives of the United States by improving the security of a NATO Ally that is a force for political stability and economic progress in Europe.

(vi) Sensitivity of Technology:

The Sensitivity of Technology Statement contained in the original notification applies to items reported here.

The highest level of classification of defense articles, components, and services included in this potential sale is SECRET.

(vii) Date Report Delivered to Congress: September 15, 2025

[FR Doc. 2026-01482 Filed 1-26-26; 8:45 am]

BILLING CODE 6001-FR-P